DEPARTMENT OF AGRICULTURE

Commodity Credit Corporation

Notice of Funds Availability: Inviting Applications for the Foreign Market Development Cooperator Program

SUMMARY: The Commodity Credit Corporation (CCC) announces that it is inviting proposals for the 2018 Foreign Market Development Cooperator (Cooperator) program. The intended effect of this notice is to solicit applications from eligible applicants for fiscal year 2018 and to set out criteria for the awarding of funds under the program. The Cooperator program is administered by personnel of the Foreign Agricultural Service (FAS).

DATES: All applications must be received by 5 p.m. Eastern Daylight Time, June 19, 2017. Applications received after this date will not be considered.

FOR FURTHER INFORMATION CONTACT: Applicants needing assistance should contact Curt Alt in the Program Operations Division, Office of Trade Programs, Foreign Agricultural Service by courier: Room 6512, 1400 Independence Ave. SW., Washington, DC 20250, or by phone: (202) 720-4327, or by fax: (202) 720-9361, or by email: uesadmin@fas.usda.gov. Information is also available on the FAS Web site at the following URL address: http://www.fas.usda.gov/programs/foreign-market-development-program-fmd.

SUPPLEMENTARY INFORMATION:

A. Funding Opportunity Description

Announcement Type: New.

Catalog of Federal Domestic Assistance (CFDA) Number: 10.600.

Authority: The Cooperator program is authorized by Title VII of the Agricultural Trade Act of 1978, as amended. Cooperator program regulations appear at 7 CFR part 1484.

Purpose: The Cooperator program is designed to create, expand, and maintain foreign markets for U.S. agricultural commodities and products through cost-share assistance. Financial assistance under the Cooperator program will be made available on a competitive basis and applications will be reviewed against the evaluation criteria contained herein and in the Cooperator program regulations. All U.S. agricultural commodities, except tobacco, are eligible for consideration.

FAS allocates funds in a manner that effectively supports the strategic decision-making initiatives of the Government Performance and Results Act (GPRA) of 1993. In deciding whether a proposed project will contribute to the effective creation, expansion, or maintenance of foreign markets, FAS considers whether the applicant provides a clear, long-term agricultural trade strategy and an effective program time line against which results can be measured at specific intervals using quantifiable product or country goals. FAS also considers the extent to which a proposed project targets markets with the greatest growth potential. These factors are part of the FAS resource allocation strategy to fund applicants who can demonstrate performance and address the objectives of the GPRA.

Funding Available: The Agricultural Trade Act of 1978, as amended, provides up to $34.5 million annually for the Cooperator program. Actual funding available in FY 2018 may be different due to sequestration or other Congressional action.

B. Award Information

Under the Cooperator program, CCC enters into agreements with eligible nonprofit U.S. trade organizations to share the cost of certain overseas marketing and promotion activities. Funding priority is given to organizations that have the broadest possible producer representation of the commodity being promoted and that are nationwide in membership and scope. Cooperators may receive assistance only for generic activities that do not involve promotions targeted directly to consumers purchasing in their individual capacity. The Cooperator program generally operates on a reimbursement basis.

C. Eligibility Information

1. Eligible Organizations: To participate in the Cooperator program, an applicant must be a nonprofit U.S. agricultural trade organization.

2. Cost-Sharing: To participate in the Cooperator program, an applicant must agree to contribute resources to its proposed promotional activities. The Cooperator program is intended to supplement, not supplant, the efforts of the U.S. private sector. The contribution must be at least 50 percent of the value of resources provided by CCC for activities conducted under the project agreement.

The degree of commitment of an applicant to the promotional strategies contained in its application, as represented by the cost-share contributions specified therein, is considered by FAS when determining which applications will be approved for funding. Cost-share may be actual cash invested or in-kind contributions, such as professional staff time spent on the design and implementation of activities. The Cooperator program regulations, including §§ 1484.50 and 1484.51, provide detailed discussion of eligible and ineligible cost-share contributions.

3. Other: Applications should include a justification for funding assistance from the program—an explanation as to what specifically could not be accomplished without federal funding assistance and why participating organization(s) are unlikely to carry out the project without such assistance.

D. Application and Submission Information

1. Address to Submit Application Package: Organizations should submit their Cooperator program applications to FAS through the web-based Unified Export Strategy (UES) system. The UES allows applicants to submit a single consolidated and strategically coordinated proposal that incorporates requests for funding under all of the FAS market development programs. The suggested UES format encourages applicants to examine the constraints or barriers to trade that they face, identify activities that would help overcome such impediments, consider the entire pool of complementary marketing tools and program resources, and establish realistic export goals. Applicants planning to use the UES must first contact FAS' Program Operations Division to obtain site access information. The web-based application may be found at the following URL address: https://www.fas.usda.gov/ues/webapp/.

Applicants experiencing difficulty or otherwise needing assistance applying to the program should contact the Program Operations Division, Office of Trade Programs, Foreign Agricultural Service by courier: Room 6512, 1400 Independence Ave. SW., Washington, DC 20250, or by phone: (202) 720-4327, or by fax: (202) 720-9361, or by email: uesadmin@fas.usda.gov.

2. Content and Form of Application Submission: To be considered for the Cooperator program, an applicant must submit to FAS information required by § 1484.20 of the Cooperator program regulations. In addition, in accordance with the Office of Management and Budget's policy (68 FR 38402 (June 27, 2003)) regarding the need to identify entities that are receiving government awards, all applicants must submit a Dun and Bradstreet Data Universal Numbering System (DUNS) number. An applicant may request a DUNS number at no cost by calling the dedicated toll-free DUNS number request line at (866) 705-5711.

In addition, in accordance with 2 CFR part 25, each entity that applies to the Cooperator program and does not qualify for an exemption under 2 CFR 25.110 must:

(i) Provide a valid DUNS number in each application;

(ii) Be registered in the System for Award Management (SAM) prior to submitting an application; and

(iii) Continue to maintain an active SAM registration with current information at all times during which it has an active Federal award or an application under consideration by CCC.

FAS may not make an award to an applicant until the applicant has complied with all applicable unique entity identifier and SAM requirements, and, if an applicant has not fully complied with the requirements by the time FAS is ready to make the award, FAS may determine that the applicant is not qualified to receive the award and use that determination as a basis for making an award to another applicant.

Similarly, in accordance with 2 CFR part 170, each entity that applies to the Cooperator program and does not qualify for an exception under 2 CFR 170.110(b) must ensure it has the necessary processes and systems in place to comply with the applicable reporting requirements of 2 CFR part 170 should it receive funding under the Cooperator program.

Incomplete applications or applications that do not otherwise conform to this announcement or the Cooperator program regulations will not be accepted for review.

3. Submission Dates and Times: All applications must be received by 5 p.m. Eastern Daylight Time, June 19, 2017. By the application deadline, all Cooperator program applicants must also submit to FAS a signed certification statement as specified in 7 CFR 1484.20(a)(14). The completed certification statements can be sent via courier/delivery service to the Program Operations Division, Office of Trade Programs, Foreign Agricultural Service, U.S. Department of Agriculture, Room 6512, 1400 Independence Ave. SW., Washington, DC 20250. Applicants can also send a scanned copy of the signed certification statement via email to: uesadmin@fas.usda.gov. Applications or certifications received after the deadline will not be considered.

4. Funding Restrictions: Certain types of expenses are not eligible for reimbursement by the program, and there are limits on other categories of expenses. CCC also will not reimburse unreasonable expenditures or expenditures made prior to approval. Full details are available in §§ 1484.54 and 1484.55 of the Cooperator program regulations.

E. Application Review Information

1. Criteria and Review and Selection Process: A description of the FAS process for reviewing applications and the criteria for allocating available Cooperator program funds is as follows:

(1) Phase 1—Sufficiency Review and FAS Divisional Review

Applications received by the closing date will be reviewed by FAS to determine the eligibility of the applicants and the completeness of the applications. These requirements appear in §§ 1484.14 and 1484.20 of the Cooperator program regulations as well as in this Notice. Applications that meet the requirements will be further evaluated by the appropriate Commodity Branch office of FAS' Cooperator Programs Division. The Commodity Branch will review each application against the criteria listed in § 1484.21 of the Cooperator program regulations. The purpose of this review is to identify meritorious proposals. The Commodity Branch then recommends an appropriate funding level for each application for consideration by the Office of the Deputy Administrator, Office of Trade Programs.

(2) Phase 2—Competitive Review

Meritorious applications are passed on to the Office of the Deputy Administrator, Office of Trade Programs, for the purpose of allocating available funds among those applicants. Applicants will compete for funds on the basis of the following allocation criteria as appropriate (the number in parentheses represents the percentage weight factor):

(a) Applicant's Contribution Level (40): The applicant's 6-year average share (2013-2018) of all contributions under the Cooperator program compared to the applicant's 6-year average share (2013-2018) of the funding level for all Cooperator program participants.

(b) Past U.S. Export Performance (20): The 6-year average share (2012-2017) of the value of U.S. exports promoted by the applicant compared to the applicant's 6-year average share (2012-2017) of the funding level for all Cooperator participants plus, for those groups participating in the MAP program, the 6-year average share (2012-2017) of all MAP budgets.

(c) Past Demand Expansion Performance (20): The 6-year average share (2012-2017) of the total value of world trade of the commodities promoted by the applicant compared to the applicant's 6-year average share (2012-2017) of all Cooperator program expenditures plus, for those groups participating in the MAP program, a 6-year average share (2012-2017) of all MAP expenditures.

(d) Future Demand Expansion Goals (10): The total dollar value of projected world trade of the commodities being promoted by the applicant for the year 2023 compared to the applicant's requested funding level.

(e) Accuracy of Past Demand Expansion Projections (10): The actual dollar value share of world trade of the commodities being promoted by the applicant for the year 2016 as reported in the 2018 Cooperator program application compared to the projection of world trade of the commodities being promoted by the applicant for 2016 as specified in the applicant's 2013 Cooperator program application.

The Commodity Branches' recommended funding levels for each applicant are adjusted by each weight factor as described above to determine the amount of funds allocated to each applicant.

In addition, FAS, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FAS will consider any comments by the applicant, in addition to the other information in the designated integrity and performance system, in making a judgment about the applicant's integrity, business ethics, and record of performance under Federal awards when completing the review of risk posed by applicants as described in 2 CFR 200.205 “Federal awarding agency review of risk posed by applicants.”

2. Anticipated Announcement Date: Announcements of funding decisions for the Cooperator program are anticipated during October 2017.

F. Award Administration Information

1. Award Notices: FAS will notify each applicant in writing of the final disposition of its application. FAS will send an approval letter and project agreement to each approved applicant. The approval letter and project agreement will specify the terms and conditions applicable to the project, including the levels of Cooperator program funding and cost-share contribution requirements.

2. Administrative and National Policy Requirements: Interested parties should review the Cooperator program regulations, which are available at the following URL address: http://www.fas.usda.gov/programs/foreign-market-development-program-fmd.

3. Reporting: FAS requires various reports and evaluations from Cooperators. Reporting requirements are detailed in the Cooperator program regulations in §§ 1484.53, 1484.70, and 1484.72.

G. Agency Contact(s)

For additional information and assistance, contact the Program Operations Division, Office of Trade Programs, Foreign Agricultural Service, U.S. Department of Agriculture by courier: Room 6512, 1400 Independence Ave. SW., Washington, DC 20250, or by phone: (202) 720-4327, or by fax: (202) 720-9361, or by email: uesadmin@fas.usda.gov.

Signed at Washington, DC, on May 12, 2017.
Holly Higgins,
Acting Administrator, Foreign Agricultural Service, and Acting Vice President, Commodity Credit Corporation.

[FR Doc. 2017-10097 Filed 5-18-17; 8:45 am]

BILLING CODE 3410-10-P